DEPARTMENT OF DEFENSE

Defense Acquisition Regulations System

48 CFR Part 225

RIN 0750-AI49

Defense Federal Acquisition Regulation Supplement: Updated Descriptions of Product Service Groups Subject to Trade Agreements (DFARS Case 2015-D004)

AGENCY: Defense Acquisition Regulations System, Department of Defense (DoD).

ACTION: Final rule.

SUMMARY: DoD is issuing a final rule amending the Defense Federal Acquisition Regulation Supplement (DFARS) to update the descriptions of Federal supply groups (now identified as product service groups) subject to trade agreements to conform to the current Federal Procurement Data System Product and Service Codes Manual.

DATES: Effective January 29, 2015.

FOR FURTHER INFORMATION CONTACT: Ms. Amy G. Williams, telephone 571-372-6106.

SUPPLEMENTARY INFORMATION:

I. Background

This final rule amends DFARS 225.401-70 to update the descriptions of the Federal supply groups, now identified as product service groups (PSGs), to conform to the Federal Procurement Data System Product and Service Codes Manual, August 2011 Edition. DFARS 225.401-70 lists end products that are subject to trade agreements when acquired by DoD. There are no changes to the groups covered; however, a number of the PSG descriptions are updated in order to better reflect product coverage. The World Trade Organization Government Procurement Agreement, Free Trade Agreement, and other designated countries will continue to have guaranteed access to the goods committed under U.S. international agreements. The revised descriptions more clearly include some new items that were not previously mentioned in the descriptions, even though included in the product service group.

II. Publication of This Final Rule for Public Comment Is Not Required by Statute

“Publication of proposed regulations”, 41 U.S.C. 1707, is the statute which applies to the publication of the Federal Acquisition Regulation. Paragraph (a)(1) of the statute requires that a procurement policy, regulation, procedure or form (including an amendment or modification thereof) must be published for public comment if it relates to the expenditure of appropriated funds, and has either a significant effect beyond the internal operating procedures of the agency issuing the policy, regulation, procedure or form, or has a significant cost or administrative impact on contractors or offerors. This final rule is not required to be published for public comment, because it does not change the Federal supply groups covered, but just updates the descriptions of the listed product service groups to reflect the current Product and Service Codes Manual. It does not impact which products are subject to trade agreements.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant DFARS revision within the meaning of FAR 1.501-1, and 41 U.S.C. 1707 does not require publication for public comment.

V. Paperwork Reduction Act

The rule does not contain any information collection requirements that require the approval of the Office of Management and Budget under the Paperwork Reduction Act (44 U.S.C. chapter 35).

List of Subjects in 48 CFR Part 225

Government procurement.

Manuel Quinones,
Editor, Defense Acquisition Regulations System.

Therefore, 48 CFR part 225 is amended as follows:

PART 225—FOREIGN ACQUISITION

1. The authority citation for 48 CFR part 225 continues to read as follows:

Authority: 41 U.S.C. 1303 and 48 CFR chapter 1.

225.401-70 [Amended]

2. Amend section 225.401-70 by—

a. In the introductory text, removing “Federal supply groups (FSG)” and adding “product service groups (PSGs)” in its place;

b. In the table column heading, removing “FSG” and adding “PSG” in its place;

c. In newly redesignated entry PSG 23, removing “(except 2350 and buses under 2310)” and adding “(except 2305, 2350, and buses under 2310)” in its place;

d. In newly redesignated entry PSG 40, adding a comma after “chain”;

e. In newly redesignated entry PSG 41, removing “Refrigeration and air conditioning equipment” and adding “Refrigeration, air conditioning, and air circulating equipment” in its place;

f. In newly redesignated entry PSG 42, removing “Fire fighting, rescue and safety equipment” and adding “Fire fighting, rescue, and safety equipment; and environmental protection equipment and materials” in its place;

g. In newly redesignated entry PSG 44, adding a comma after “plant”;

h. In newly redesignated entry PSG 45, removing “sanitation” and adding “waste disposal” in its place;

i. In newly redesignated entry PSG 47, removing “Piping, tubing, hose, and fitting” and adding “Pipe, tubing, hose, and fittings” in its place;

j. In newly redesignated entry PSG 49, removing “(except 4920-4927, 4931-4935, 4960)” and adding “(except 4920-4927, 4931-4935, 4960, 4970)” in its place;

k. In newly redesignated entry PSG 63, removing “Alarm and signal systems” and adding “Alarm, signal, and security detection systems” in its place;

l. In newly redesignated entry PSG 70, removing “General purpose ADPE, software, supplies, and support equipment” and adding “Automatic data processing equipment (including firmware), software, supplies and support equipment” in its place;

m. In newly redesignated entry PSG 74, removing “Office machines, visible record equipment and ADP equipment” and adding “Office machines, text processing systems and visible record equipment” in its place;

n. In newly redesignated entry PSG 77, removing “home type radios” and adding “home-type radios” in its place;

o. In newly redesignated entry PSG 81, adding a comma after “packaging”;

p. In newly redesignated entry PSG 83, removing “flag staffs” and adding “flagstaffs” in its place; and

q. In newly redesignated entry PSG 91, removing “Fuels, oils, and waxes” and adding “Fuels, lubricants, oils, and waxes” in its place.

[FR Doc. 2015-01434 Filed 1-28-15; 8:45 am]

BILLING CODE 5001-06-P